DEPARTMENT OF COMMERCE

International Trade Administration

[A-580-874]

Certain Steel Nails From the Republic of Korea: Preliminary Results, Preliminary Intent To Rescind, in Part, and Partial Rescission of Antidumping Duty Administrative Review; 2023-2024

AGENCY: Enforcement and Compliance, International Trade Administration, Department of Commerce.

SUMMARY: The U.S. Department of Commerce (Commerce) preliminarily finds that sales of certain steel nails (nails) from the Republic of Korea (Korea) were made at less than normal value (NV) during the period of review (POR) July 1, 2023, through June 30, 2024. Moreover, Commerce is rescinding the review, in part, with respect to certain companies which had no entries of subject merchandise during the POR. We invite interested parties to comment on these preliminary results.

DATES: Applicable January 2, 2026.

FOR FURTHER INFORMATION CONTACT: Allison Hollander or Ian Riggs, AD/CVD Operations, Office IX, Enforcement and Compliance, International Trade Administration, U.S. Department of Commerce, 1401 Constitution Avenue NW, Washington, DC 20230; telephone: (202) 482-2805 or (202) 482-3810, respectively.

SUPPLEMENTARY INFORMATION:

Background

On July 13, 2015, Commerce published the antidumping duty order on nails from the Korea in the Federal Register.¹ On August 14, 2024, based on timely requests for review, we initiated an administrative review of the Order covering 126 companies, in accordance with section 751(a) of the Tariff Act of 1930, as amended (the Act).² On December 9, 2024, Commerce tolled certain deadlines in this administrative proceeding by 90 days.³ On June 12, 2025, Commerce extended the deadline for the preliminary results of this administrative review to October 10, 2025.⁴

¹ See Certain Steel Nails from the Republic of Korea, Malaysia, the Sultanate of Oman, Taiwan, and the Socialist Republic of Vietnam: Antidumping Duty Orders, 80 FR 39994 (July 13, 2015) (Order).

² See Initiation of Antidumping and Countervailing Duty Administrative Reviews, 89 FR 66035 (August 14, 2024); see also Initiation of Antidumping and Countervailing Duty Administrative Reviews, 89 FR 77079 (September 20, 2024) (Initiation Correction).

³ See Memorandum, “Tolling of Deadlines for Antidumping and Countervailing Duty Proceedings,” dated December 9, 2024.

⁴ See Memorandum, “Extension of Deadline for Preliminary Results of 2023-2024 Antidumping Duty Administrative Review,” dated June 12, 2025.

Due to the lapse in appropriations and Federal Government shutdown, on November 14, 2025, Commerce tolled all deadlines in this administrative proceeding by 47 days.⁵ On November 24, 2025, we extended the preliminary results of this review to no later than December 8, 2025.⁶ Finally, due to a backlog of documents that were electronically filed via Enforcement and Compliance's Antidumping and Countervailing Duty Centralized Electronic Service System (ACCESS) during the Federal Government shutdown on November 24, 2025, Commerce tolled all deadlines in administrative proceedings by an additional 21 days.⁷ Accordingly, the deadline for these preliminary results is now December 29, 2025. For a complete description of the events that followed the initiation of this review, see the Preliminary Decision Memorandum.⁸

⁵ See Memorandum, “Deadlines Affected by the Shutdown of the Federal Government,” dated November 14, 2025.

⁶ See Memorandum, “Extension of Deadline for Preliminary Results of 2023-2024 Antidumping Duty Administrative Review,” dated November 24, 2025.

⁷ See Memorandum, “Tolling of all Case Deadlines,” dated November 24, 2025.

⁸ See Memorandum, “Decision Memorandum for the Preliminary Results of the 2023-2024 Administrative Review of the Antidumping Duty Order on Certain Steel Nails from the Republic of Korea,” dated concurrently with, and hereby adopted by, this notice (Preliminary Decision Memorandum).

Scope of the Order

The products subject to the Order are certain steel nails (steel nails) from the Republic of Korea (Korea). For a full description of the scope of the Order, see the Preliminary Decision Memorandum.

Partial Rescission of Administrative Review

Pursuant to 19 CFR 351.213(d)(3), Commerce will rescind an administrative review when there are no reviewable entries of subject merchandise during the POR for which liquidation is suspended.⁹ Normally, upon completion of an administrative review, the suspended entries are liquidated at the antidumping duty assessment rate calculated for the review period.¹⁰ Therefore, for an administrative review to be conducted, there must be a suspended entry that Commerce can instruct CBP to liquidate at the antidumping duty assessment rate calculated for the POR.¹¹

⁹ See, e.g., Dioctyl Terephthalate from the Republic of Korea: Rescission of Antidumping Administrative Review; 2021-2022, 88 FR 24758 (April 24, 2023); see also Certain Carbon and Alloy Steel Cut- to Length Plate from the Federal Republic of Germany: Recission of Antidumping Administrative Review; 2020-2021, 88 FR 4157 (January 24, 2023).

¹⁰ See 19 CFR 351.212(b)(1).

¹¹ See 19 CFR 351.213(d)(3).

On February 5, 2025, 119 companies listed in Appendix III because there were no suspended entries of subject merchandise produced or exported by these companies during the POR and we invited interested parties to comment.¹² We received no comments on the Intent to Rescind Memorandum. Accordingly, Commerce is rescinding this review with respect to the companies listed in Appendix III, in accordance with 19 CFR 351.213(d)(3).

¹² See Memorandum, “Notice of Intent to Rescind Review, in Part,” dated February 5, 2025 (Intent to Rescind Memorandum).

Methodology

Commerce is conducting this review in accordance with section 751(a) of the Act. We calculated export price in accordance with section 772 of the Act. We calculated NV in accordance with section 773 of the Act. For a full description of the methodology underlying these preliminary results, see the Preliminary Decision Memorandum. A list of topics discussed in the Preliminary Decision Memorandum is attached as Appendix I to this notice.

Rate for Companies Not Selected for Individual Examination

The statute and Commerce's regulations do not address the rate to be determined for companies not selected for individual examination when Commerce limits its examination in an administrative review pursuant to section 777A(c)(2) of the Act. Generally, Commerce looks to section 735(c)(5) of the Act, which provides instructions for calculating the all-others rate in a market economy less-than-fair-value (LTFV) investigation, for guidance when calculating the rate for companies which were not selected for individual examination in an administrative review. Under section 735(c)(5)(A) of the Act, the all-others rate is normally “an amount equal to the weighted average of the estimated weighted average dumping margins established for exporters and producers individually investigated, excluding any zero or de minimis margins, and any margins determined entirely {on the basis of facts available}.”

Consistent with section 735(c)(5)(A) of the Act, we preliminarily calculated the weighted-average dumping margin for the non-selected companies using the calculated rates of Je-il Co., Ltd. (Je-il) and Korea Wire Co., Ltd. (KOWIRE), which are not zero, de minimis, or based entirely on facts otherwise available.¹³

¹³ See Memorandum, “Calculation of the Review-Specific Average Rate for the Preliminary Results,” dated concurrently with the Preliminary Decision Memorandum.

Preliminary Results of Review

As a result of this review, we preliminarily determine that the following estimated weighted-average dumping margins exist for the period July 1, 2023, through June 30, 2024:

Producer/exporter | Weighted-average dumping margin (percent)
Je-il Co., Ltd | 1.64
Korea Wire Co., Ltd | 0.61
Review-Specific Rate for Non-Selected Companies ¹⁴ | 1.08

Disclosure

Commerce intends to disclose to interested parties the calculations performed for these preliminary results within five days of any public announcement or, if there is no public announcement, within five days of the date of publication of this notice in the Federal Register, in accordance with 19 CFR 351.224(b).

¹⁴ The exporters/producers not selected for individual examination are listed in Appendix II.

Public Comment

Case briefs or other written comments may be submitted to the Assistant Secretary for Enforcement and Compliance. Pursuant to 19 CFR 351.309(c)(1)(ii), we have modified the deadline for interested parties to submit case briefs to Commerce to no later than 21 days after the date of the publication of this notice.¹⁵ Rebuttal briefs, limited to issues raised in the case briefs, may be filed not later than five days after the date for filing case briefs.¹⁶ Interested parties who submit case or rebuttal briefs in this proceeding must submit: (1) a table of contents listing each issue; and (2) a table of authorities.¹⁷ All briefs must be filed electronically using ACCESS. An electronically filed document must be received successfully in its entirety in ACCESS by 5:00 p.m. Eastern Time on the established deadline.

¹⁵ See 19 CFR 351.309.

¹⁶ See 19 CFR 351.309(d)(1); see also Administrative Protective Order, Service, and Other Procedures in Antidumping and Countervailing Duty Proceedings, 88 FR 67069, 67077 (September 29, 2023) (APO and Service Final Rule).

¹⁷ See 19 CFR 351.309(c)(2) and (d)(2).

As provided under 19 CFR 351.309(c)(2)(iii) and (d)(2)(iii), we request that interested parties provide at the beginning of their briefs a public, executive summary for each issue raised in their briefs.¹⁸ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹⁹

¹⁸ We use the term “issue” here to describe an argument that Commerce would normally address in a comment of the Issues and Decision Memorandum.

¹⁹ See APO and Service Final Rule.

Pursuant to 19 CFR 351.310(c), interested parties who wish to request a hearing must submit a written request to the Assistant Secretary for Enforcement and Compliance, filed electronically via ACCESS by 5:00 p.m. Eastern Time within 30 days after the date of publication of this notice. Requests should contain: (1) the party's name, address, and telephone number; (2) the number of participants; and (3) a list of issues to be discussed. Oral presentations at the hearing will be limited to issues raised in the briefs. If a request for a hearing is made, Commerce will inform parties of the scheduled date and time for the hearing.²⁰

²⁰ See 19 CFR 351.310(d).

Assessment Rates

Upon issuing the final results, Commerce shall determine, and U.S. Customs and Border Protection (CBP) shall assess, antidumping duties on all appropriate entries. Pursuant to 19 CFR 351.212(b)(1), because both respondents reported the entered value for their U.S. sales, we calculated importer-specific ad valorem duty assessment rates based on the ratio of the total amount of dumping calculated for the examined sales to the total entered value of those sales. Where either the respondent's weighted-average dumping margin is zero or de minimis within the meaning of 19 CFR 351.106(c)(1), or an importer-specific rate is zero or de minimis, we will instruct CBP to liquidate the appropriate entries without regard to antidumping duties.

Commerce's “automatic assessment” will apply to entries of subject merchandise during the POR produced by Je-il or KOWIRE for which these companies did not know that the merchandise they sold to an intermediary (e.g., a reseller, trading company, or exporter) was destined for the United States. In such instances, we will instruct CBP to liquidate unreviewed entries at the all-others rate if there is no rate for the intermediate company(ies) involved in the transaction.²¹

²¹ For a full discussion of this practice, see Antidumping and Countervailing Duty Proceedings: Assessment of Antidumping Duties, 68 FR 23954 (May 6, 2003).

For the companies which were not selected for individual review, we intend to assign an assessment rate based on the review-specific rate, calculated as noted in the “Rate for Companies Not Selected for Individual Examination” section, above. The final results of this review shall be the basis for the assessment of antidumping duties on entries of merchandise covered by this review and for future deposits of estimated duties, where applicable.

For the companies listed in Appendix III for which we are rescinding this review, we will instruct CBP to assess antidumping duties on all appropriate entries at a rate equal to the cash deposit of estimated antidumping duties required at the time of entry, or withdrawal from warehouse, in accordance with 19 CFR 351.212(c)(l)(i). Commerce intends to issue these rescission instructions to CBP no earlier than 35 days after the date of publication of this notice in the Federal Register.

For Je-il, KOWIRE, and the non-selected companies, Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective for all shipments of the subject merchandise entered, or withdrawn from warehouse, for consumption on or after the publication date of the final results of this administrative review, as provided by section 751(a)(2)(C) of the Act: (1) the cash deposit rate for the companies listed above will be equal to the weighted average dumping margin established in the final results of this review, except if the rate is less than 0.50 percent and therefore, de minimis within the meaning of 19 CFR 351.106(c)(1), in which case the cash deposit rate will be zero; (2) for previously investigated or reviewed companies not covered in this review, the cash deposit rate will continue to be the company-specific cash deposit rate published for the most recently completed segment of this proceeding in which the company participated; (3) if the exporter is not a firm covered in this review, or the LTFV investigation, but the producer is, then the cash deposit rate will be the rate established for the most recently completed segment for the producer of the merchandise; and (4) the cash deposit rate for all other producers or exporters will continue to be 11.80 percent, the all-others rate established in the LTFV investigation.²² These deposit requirements, when imposed, shall remain in effect until further notice.

²² See Order.

Final Results of Review

Unless otherwise extended, Commerce intends to issue the final results of this administrative review, including the results of its analysis of the issues raised in any written briefs, no later than 120 days after the date of publication of this notice in the Federal Register, pursuant to section 751(a)(3)(A) of the Act and 19 CFR 351.213(h)(1).

Notification to Importers

This notice serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of doubled antidumping duties.

Notification to Interested Parties

We are issuing and publishing these results in accordance with sections 751(a)(1) and 777(i)(1) of the Act, 19 CFR 351.213(h), and 19 CFR 351.221(b)(4).

Dated: December 29, 2025.
Christopher Abbott,
Deputy Assistant Secretary for Policy and Negotiations, performing the non-exclusive functions and duties of the Assistant Secretary for Enforcement and Compliance.

Appendix I

List of Topics Discussed in the Preliminary Decision Memorandum

I. Summary

II. Background

III. Scope of the Order

IV. Discussion of the Methodology

V. Recommendation

Appendix II

Companies Not Selected for Individual Examination

1. Koram Inc.

2. Daejin Steel Company

3. Hanmi Staple Co., Ltd.

4. Nailtech Co., Ltd.

5. Peace Industries Ltd. Korea

Appendix III

Companies for Which Commerce Is Rescinding the Review

1. Agl Co., Ltd.

2. Americana Express (Shandong) Co., Ltd.

3. Ansing Fasteners Co. Ltd.

4. Beijing Catic Industry Limited.

5. Beijing Jinheung Co., Ltd.

6. Big Mind Group Co., Ltd.

7. Changzhou Kya Trading Co., Ltd.

8. China Staple Enterprise Tianjin Co. Ltd.

9. CMT Co. Ltd.

10. D&F Material Products Ltd.

11. De Well Group Korea Co., Ltd.

12. Dezhou Hualude Hardware Products Co. Ltd.

13. DLF Industry Co., Limited.

14. Dong Yang Chemical Co. Ltd.

15. Doublemoon Hardware Company Ltd.

16. DT China (Shanghai) Ltd.

17. Duo-Fast Korea Company Limited; Jinheung Steel Corporation; and Jinsco International Corp.²³

²³ These companies are part of a collapsed entity that Commerce excluded from the Order. See Certain Steel Nails from the Republic of Korea, Malaysia, the Sultanate of Oman, Taiwan, and the Socialist Republic of Vietnam: Antidumping Duty Orders, 80 FR 39994, 39996 (July 13, 2015). Therefore, this review only covered this entity for subject merchandise produced in Korea where the entity acted as either the manufacturer or exporter, but not both. See also Initiation of Antidumping and Countervailing Duty Administrative Reviews, 89 FR 77079 (September 20, 2024).

18. Dugwoo Co. Ltd.

19. Ejen Brothers Limited.

20. England Rich Group (China) Ltd.

21. Ever Leading International Inc.

22. Fastgrow International Co., Inc.

23. Glovis America, Inc.

24. GWP Industries (Tianjin) Co., Ltd.

25. Haas Automation Inc.

26. Han Express Co., Ltd.

27. Handuk Industrial Co., Ltd.

28. Hanwoo Industrial Co. Ltd.

29. Hebei Cangzhou New Century Foreign Trade Co., Ltd.

30. Hebei Longshengyuan Trade Co Ltd.

31. Hebei Minmetals Co., Ltd.

32. Hebei Shinyee Trade Co. Ltd.

33. Hengtuo Metal Products Company Limited.

34. Home Value Co., Ltd.

35. Hongyi (Hk) Hardware Products Co., Limited.

36. Hongyi (Hk) Industrial Co., Limited.

37. Huanghua RC Business Co., Ltd.

38. Huanghua Yingjin Hardware Products Co., Ltd.

39. HWA Shin Bolt Ind. Co. Ltd.

40. Inmax Industries Sdn. Bhd.

41. JCD Group Co., Limited.

42. Jining Jufu International Trade Co.

43. Joo Sung Sea & Air Co., Ltd.

44. Jushiqiangsen (Tianjin) International Trade Co., Ltd.

45. Kabool Fasteners Co. Ltd.

46. KB Steel

47. Kerry-Apex (Thailand) Co., Ltd.

48. KPF Co., Ltd.

49. Kuehne & Nagel Ltd.

50. Linyi Double-Moon Hardware Products Co., Ltd.

51. Linyi Flyingarrow Imp. & Exp. Co., Ltd.

52. Linyi Jianchengde Metal Hardware Co.

53. Linyi Yitong Chain Co., Ltd.

54. Manho Rope and Wire Ltd.

55. Max Co., Ltd.

56. Mingguang Ruifeng Hardware Products Co., Ltd.

57. Nanjing Senqiao Trading Co., Ltd.

58. Needslink, Inc.

59. Ocean King International Industries Limited.

60. Paslode Fasteners (Shanghai) Co., Ltd.

61. Peace Korea Co., Ltd.

62. Qingdao Ant Hardware Manufacturing Co., Ltd.

63. Qingdao Best World Industry-Trading Co., Ltd.

64. Qingdao Cheshire Trading Co., Ltd.

65. Qingdao Hongyuan Nail Industry Co., Ltd.

66. Qingdao JCD Machinery Co., Ltd.

67. Qingdao Jiawei Industry Co., Limited.

68. Qingdao Jisco Co., Ltd.

69. Qingdao Master Metal Products Co., Ltd.

70. Qingdao Meijialucky Industry and Co.

71. Qingdao Mst Industry and Commerce Co., Ltd.

72. Qingdao Ruitai Trade Co., Ltd.

73. Qingdao Shantron Int'l Trade Co., Ltd.

74. Qingdao Shenghengtong Metal Products Co., Ltd.

75. Qingdao Sunrise Metal Products Co., Ltd.

76. Qingdao Tian Heng Xiang Metal Products Co., Ltd.

77. Qingdao Top Metal Industrial Co., Ltd.

78. Rewon Systems, Inc.

79. Rise Time Industrial Ltd.

80. Salt International Co. Ltd.

81. Shandong Dominant Source Group Co., Ltd.

82. Shandong Guomei Industry Co., Ltd.

83. Shanghai Curvet Hardware Products Co., Ltd.

84. Shanghai Goldenbridge International Co., Ltd.

85. Shanghai Pinnacle International Trading Co., Ltd.

86. Shanghai Zoonlion Industrial Co., Ltd.

87. Shanxi Pioneer Hardware Industrial Co., Ltd.

88. Shanxi Sanhesheng Trade Co., Ltd.

89. Shaoxing Bohui Import & Export Co., Ltd.

90. Shijiazhuang Tops Hardware Manufacturing Co., Ltd.

91. Shijiazhuang Yajiada Metal Products Co., Ltd.

92. Shin Jung TMS Corporation Ltd.

93. Shinheung Industry Co.

94. SSS Hardware International Trading Co., Ltd.

95. Storeit Services LLP.

96. Tangshan Jason Metal Materials Co., Ltd.

97. Test Rite International Co., Ltd.

98. The Inno Steel Industry Company.

99. Tianjin Bluekin Industries Limited.

100. Tianjin Coways Metal Products Co., Ltd.

101. Tianjin Hweschun Fasteners Manufacturing Co. Ltd.

102. Tianjin Jinchi Metal Products Co., Ltd.

103. Tianjin Jinghai County Hongli Industry and Business Co., Ltd.

104. Tianjin Jinzhuang New Material Sci Co., Ltd.

105. Tianjin Lianda Group Co., Ltd.

106. Tianjin Zhonglian Metals Ware Co., Ltd.

107. Tianjin Zhonglian Times Technology Co., Ltd.

108. Un Global Company Limited.

109. Unicorn (Tianjin) Fasteners Co., Ltd.

110. United Company for Metal Products.

111. W&K Corporation Limited.

112. Weifang Wenhe Pneumatic Tools Co., Ltd.

113. Wulian Zhanpengmetals Co., Ltd.

114. WWL India Private Ltd.

115. Xian Metals And Minerals Import And Export Co., Ltd.

116. Youngwoo Fasteners Co., Ltd.

117. Youone Fastening Systems

118. Zhangjiagang Lianfeng Metals Products Co., Ltd.

119. Zhaoqing Harvest Nails Co., Ltd.

[FR Doc. 2025-24215 Filed 12-31-25; 8:45 am]

BILLING CODE 3510-DS-P